DEPARTMENT OF COMMERCE

Bureau of Industry and Security

15 CFR Part 744

[Docket No. 250325-0050]

RIN 0694-AK04

Additions and Modifications to the Entity List

AGENCY: Bureau of Industry and Security, Department of Commerce.

ACTION: Final rule.

SUMMARY: In this final rule, the Bureau of Industry and Security (BIS) amends the Export Administration Regulations (EAR) by adding 70 entities to the Entity List, under the destinations of China, People's Republic of (China) (42); Iran (2); Pakistan (19); South Africa (3); and the United Arab Emirates (UAE) (4). These entities have been determined by the U.S. Government to be acting contrary to the national security or foreign policy interests of the United States. This final rule also modifies four existing entries on the Entity List, consisting of revisions to one entry under France, one entry under Iran, one entry under Senegal, and one entry under the United Kingdom.

DATES: This rule is effective March 28, 2025.

FOR FURTHER INFORMATION CONTACT: Chair, End-User Review Committee, Office of the Assistant Secretary for Export Administration, Bureau of Industry and Security, Department of Commerce, Phone: (202) 482-5991, Email: ERC@bis.doc.gov.

SUPPLEMENTARY INFORMATION:

Background

The Entity List

The Entity List (supplement no. 4 to part 744 of the EAR (15 CFR parts 730-774)) identifies entities for which there is reasonable cause to believe, based on specific and articulable facts, that the entities have been involved, are involved, or pose a significant risk of being or becoming involved in activities contrary to the national security or foreign policy interests of the United States, pursuant to § 744.11. The EAR impose additional license requirements on, and limit the availability of, most license exceptions for exports, reexports, and transfers (in-country) when a listed entity is a party to the transaction. The license review policy for each listed entity is identified in the “License Review Policy” column on the Entity List, and the impact on the availability of license exceptions is described in the relevant Federal Register document that added the entity to the Entity List. BIS places entities on the Entity List pursuant to parts 744 (Control Policy: End-User and End-Use Based) and 746 (Embargoes and Other Special Controls) of the EAR.

The End-User Review Committee (ERC), composed of representatives of the Departments of Commerce (Chair), State, Defense, Energy and, where appropriate, the Treasury, makes all decisions regarding additions to, removals from, or other modifications to the Entity List. The ERC makes all decisions to add an entry to the Entity List by majority vote and makes all decisions to remove or modify an entry by unanimous vote.

Entity List Decisions

Additions to the Entity List

The ERC determined to add Britlite Engineering Company; Indentech International; IntraLink Incorporated; Proc-Master; Rehman Engineering and Services; and The Sadidians, all under the destination of Pakistan, to the Entity List. The addition of these entities is made on the basis of their contributions to Pakistan's unsafeguarded nuclear activities. This activity is contrary to the national security and foreign policy of the United States under § 744.11 of the EAR. These six entities require a license for all items subject to the EAR.

The ERC determined to add Sine Technologies; Supply Source Co.; Ariston Trade Links; Professional Systems (Pvt) Ltd.; RASTEK Technologies; and NA Enterprises, all under the destination of Pakistan, and Zibo Topred International Trading Company Limited, under the destination of China, to the Entity List. The addition of these entities is made on the basis of their contributions to Pakistan's unsafeguarded nuclear activities. This activity is contrary to the national security and foreign policy of the United States under § 744.11 of the EAR. These seven entities require a license for all items subject to the EAR.

The ERC determined to add Allied Business Concerns (Pvt) Ltd; Global Traders; Linkers Automation (Pvt) Ltd; Otto Manufacturing; Potohar Industrial & Trading Concern; Rachna Supplies (Pvt) Ltd; and Resource Enterprises, all under the destination of Pakistan, to the Entity List. The addition of these entities is made on the basis of their contributions to Pakistan's ballistic missile program. This activity is contrary to the national security and foreign policy of the United States under § 744.11 of the EAR. These entities are added to the Entity List, with a license requirement for all items subject to the EAR. License applications for the seven entities will be reviewed under a presumption of denial.

The ERC determined to add Scikro (Hong Kong) Instruments Limited and Scikro (Shanghai) Instrument Co., Ltd., both under the destination of China, to the Entity List. These entities are added for acquiring and attempting to acquire U.S.-origin items in support of advancing China's quantum technology capabilities, which has serious ramifications for U.S. national security given the military applications of quantum technologies. Both Scikro (Hong Kong) Instruments Limited and Scikro (Shanghai) Instrument Co., Ltd. have a history of supplying dilution refrigerators, which can be used to significantly improve the cooling capabilities of quantum systems, to Chinese parties on the Entity List as well as defense-related Chinese entities. The actions of these entities meet the criteria for inclusion on the Entity List under § 744.11 of the EAR, as there is reasonable cause to believe, based on specific and articulable facts, that these entities have been involved in activities that are contrary to the national security or foreign policy interests of the United States. These entities will be added to the Entity List with a license requirement for all items subject to the EAR and license applications will be reviewed under a presumption of denial.

The ERC determined to add Anhui Kehua Sci-Tech Trading Co., Ltd.; Associated Opto-electronics (Chongqing) Co., Ltd.; Chongqing Southwest Integrated Circuit Design Co., Ltd.; ORICAS Import and Export (Beijing) Corporation; and Physike Technology Co., Ltd., all under the destination of China, to the Entity List. These entities are added for acquiring and attempting to acquire U.S.-origin items in support of advancing China's quantum technology capabilities, which has serious ramifications for U.S. national security given the military applications of quantum technologies. The actions of these entities meet the criteria for inclusion on the Entity List under § 744.11 of the EAR, as there is reasonable cause to believe, based on specific and articulable facts, these entities have been involved in activities that are contrary to the national security or foreign policy interests of the United States. These entities will be added with a license requirement for all items subject to the EAR and license applications will be reviewed under a presumption of denial.

The ERC determined to add Singleton (Suzhou) Electronics Technology Co., Ltd. and Suzhou SIP Hi-Tech Precision Electronics Co., Ltd. under the destination of China, to the Entity List. These entities sell products to Chinese companies who supply Entity List parties, including Huawei and HiSilicon. This activity is contrary to the national security and foreign policy interests of the United States under § 744.11 of the EAR. These entities are added with a license requirement for all items subject to the EAR. License applications for the two entities will be reviewed under a presumption of denial.

The ERC determined to add Aeronautics Computing Technique Research Institute; Aerospace Star Technology Application Co., Ltd.; Air Force Engineering University; Beijing Guoke Tianxun Technology Co., Ltd.; Beijing Graphene Institute Co., Ltd; the Chinese Academy of Sciences Technology and Engineering Center for Space Utilization; Chengdu Aircraft Design and Research Institute; China Academy of Launch Vehicle Technology Beijing Institute of Precision Mechatronics Control Equipment; China Aeronautical Radio Electronics Research Institute; Harbin Aerospace Star Data System Technology Co., Ltd.; Jiangxi Hongdu Aviation Industry Group Co., Ltd.; Nanjing Chunhui Technology Industry Co., Ltd.; Nanjing Fiberglass Research and Design Institute; Nanjing Panda Handa Technology Co., Ltd.; National Inspection and Testing Holding Group Nanjing National Materials Testing Co., Ltd.; Ningbo Institute of Materials Technology and Engineering; Shaanxi Aerospace Science and Technology Co., Ltd.; Shanghai Aviation Electronic Co., Ltd.; Space Star Technology Co., Ltd.; Suzhou Changfeng Avionics Co., Ltd.; Tianjin Aerospace Zhongwei Data System Technology Co., Ltd.; Xi'an Aerospace Automation Co., Ltd.; Xi'an Aerospace Tianhui Data Technology Co., Ltd.; Xi'an Sunward Aeromat Co., Ltd.; Xi'an Xiangteng Microelectronics Technology Co., Ltd.; Xi'an Xiangxun Technology Co., Ltd.; and Zhejiang Aerospace Hengjia Data Technology Co., Ltd., all under the destination of China, to the Entity List. These entities are added for acquiring or attempting to acquire U.S.-origin items in support of China's military modernization. These entities have demonstrable ties to activities of concern, including hypersonic weapons development, the design and modeling of vehicles in hypersonic flight, or using proprietary software to model weapons design and effects, or have otherwise supported China's military-civil fusion efforts. This activity is contrary to the national security and foreign policy interests of the United States under § 744.11 of the EAR. These entities are added with a license requirement for all items subject to the EAR and a license review policy of presumption of denial for all items subject to the EAR.

The ERC determined to add Mohammad Reza Rajabi and his associated company, Silk Road Trading Company Ltd., under the destinations of China and Iran, to the Entity List. These entities are added for using deceptive practices to attempt to circumvent export controls and sanctions to illicitly divert U.S.-origin technology and equipment to Iran and the Government of Iran. Specifically, they attempted to procure U.S-origin items for Iran's defense industry and unmanned aerial vehicle programs. This activity is contrary to the national security and foreign policy interests of the United States under § 744.11 of the EAR. For these two entities, BIS imposes a license requirement for all items subject to the EAR and will review license applications under a presumption of denial.

The ERC determined to add Beijing Foundfresh Technology Co., Ltd.; Gyro Technology Co., Ltd.; and Stratum FT Limited under the destination of China; Ascenso Aviation; Blue Sky Aviation (Pty) Ltd.; and Wingman Concept (Pty) Ltd. under the destination of South Africa; and Astec Astronomy FZCO; Roche Consulting Limited; TFASA Helicopter International; and TG Training 2023 FZCO, under the destination of the United Arab Emirates, to the Entity List because of their links to the Test Flying Academy of South Africa (TFASA) and the training of Chinese military forces using Western and NATO sources. TFASA was added to the Entity List on June 12, 2023 (88 FR 38739, June 14, 2023). This activity is contrary to the national security and foreign policy interests of the United States under § 744.11 of the EAR. For these ten entities, BIS imposes a license requirement for all items subject to the EAR and will review license applications under a presumption of denial.

For the reasons described above, this final rule adds the following 70 entities including aliases where appropriate, to the Entity List:

China

• Aeronautics Computing Technique Research Institute;

• Aerospace Star Technology Application Co., Ltd.;

• Air Force Engineering University;

• Anhui Kehua Sci-Tech Trading Co., Ltd.;

• Associated Opto-electronics (Chongqing) Co., Ltd.;

• Beijing Foundfresh Technology Co., Ltd.;

• Beijing Graphene Institute Co., Ltd;

• Beijing Guoke Tianxun Technology Co., Ltd.;

• Chengdu Aircraft Design and Research Institute;

• China Academy of Launch Vehicle Technology Beijing Institute of Precision Mechatronics Control Equipment;

• China Aeronautical Radio Electronics Research Institute;

• Chinese Academy of Sciences Technology and Engineering Center for Space Utilization;

• Chongqing Southwest Integrated Circuit Design Co., Ltd.;

• Gyro Technology Co., Ltd.;

• Harbin Aerospace Star Data System Technology Co., Ltd.;

• Jiangxi Hongdu Aviation Industry Group Co., Ltd.;

• Mohammad Reza Rajabi;

• Nanjing Chunhui Technology Industry Co., Ltd.;

• Nanjing Fiberglass Research and Design Institute;

• Nanjing Panda Handa Technology Co., Ltd.;

• National Inspection and Testing Holding Group Nanjing National Materials Testing Co., Ltd.;

• Ningbo Institute of Materials Technology and Engineering;

• ORICAS Import and Export (Beijing) Corporation;

• Physike Technology Co., Ltd.;

• Scikro (Hong Kong) Instruments Limited;

• Scikro (Shanghai) Instrument Co., Ltd.;

• Shaanxi Aerospace Science and Technology Co., Ltd.;

• Shanghai Aviation Electronic Co., Ltd.;

• Silk Road Trading Company Ltd.;

• Singleton (Suzhou) Electronics Technology Co., Ltd.;

• Space Star Technology Co., Ltd.;

• Stratum FT Limited;

• Suzhou Changfeng Avionics Co., Ltd.;

• Suzhou SIP Hi-Tech Precision Electronics Co., Ltd.;

• Tianjin Aerospace Zhongwei Data System Technology Co., Ltd.;

• Xi'an Aerospace Automation Co., Ltd.;

• Xi'an Aerospace Tianhui Data Technology Co., Ltd.;

• Xi'an Sunward Aeromat Co., Ltd.;

• Xi'an Xiangteng Microelectronics Technology Co., Ltd.;

• Xi'an Xiangxun Technology Co., Ltd.;

• Zhejiang Aerospace Hengjia Data Technology Co., Ltd.; and

• Zibo Topred International Trading Company Limited.

Iran

• Mohammad Reza Rajabi; and

• Silk Road Trading Company Ltd.

Pakistan

• Allied Business Concerns (Pvt) Ltd;

• Ariston Trade Links;

• Britlite Engineering Company;

• Global Traders;

• Indentech International;

• IntraLink Incorporated;

• Linkers Automation (Pvt) Ltd;

• NA Enterprises;

• Otto Manufacturing;

• Potohar Industrial & Trading Concern;

• Proc-Master;

• Professional Systems (Pvt) Ltd.;

• Rachna Supplies (Pvt) Ltd;

• RASTEK Technologies;

• Rehman Engineering and Services;

• Resource Enterprises;

• Sine Technologies;

• Supply Source Co.; and

• The Sadidians.

South Africa

• Ascenso Aviation;

• Blue Sky Aviation (Pty) Ltd.; and

• Wingman Concept (Pty) Ltd.

United Arab Emirates

• Astec Astronomy FZCO;

• Roche Consulting Limited;

• TFASA Helicopter International; and

• TG Training 2023 FZCO.

Modifications to the Entity

The ERC has determined to modify one existing entity, Dart Aviation, under four entries on the Entity List under the destinations of France, Iran, Senegal, and the United Kingdom. These entries are modified by adding two aliases and one address.

Savings Clause

For the changes being made in this final rule, shipments of items removed from eligibility for a License Exception or export, reexport, or transfer (in-country) without a license (NLR) as a result of this regulatory action that were en route aboard a carrier to a port of export, reexport, or transfer (in-country), on March 28, 2025, pursuant to actual orders for export, reexport, or transfer (in-country) to or within a foreign destination, may proceed to that destination under the previous eligibility for a License Exception or export, reexport, or transfer (in-country) without a license (NLR) before April 28, 2025. Any such items not actually exported, reexported or transferred (in-country) before midnight, on April 28, 2025, require a license in accordance with this final rule.

Export Control Reform Act of 2018

On August 13, 2018, the President signed into law the John S. McCain National Defense Authorization Act for Fiscal Year 2019, which included the Export Control Reform Act of 2018 (ECRA) 50 U.S.C. 4801-4852. ECRA provides the legal basis for BIS's principal authorities and serves as the authority under which BIS issues this rule. In particular, Section 1753 of ECRA 50 U.S.C. 4812 authorizes the regulation of exports, reexports, and transfers (in-country) of items subject to U.S. jurisdiction. Further, Section 1754(a)(1)-(16) of ECRA, 50 U.S.C. 4813(a)(1)-(16), authorizes, inter alia, establishing and maintaining a list of foreign persons and end-uses that are determined to be a threat to the national security and foreign policy of the United States pursuant to the policy set forth in Section 1752(2)(A), and restricting exports, reexports, and in-country transfers of any controlled items to any foreign person or end-use so listed; apprising the public of changes in policy, regulations, and procedures; and any other action necessary to carry out ECRA that is not otherwise prohibited by law. Pursuant to Section 1762(a) of ECRA, 50 U.S.C. 4821(a), these changes can be imposed in a final rule without prior notice and comment.

Rulemaking Requirements

1. This rule has been determined to be not significant for purposes of Executive Order 12866.

2. Notwithstanding any other provision of law, no person is required to respond to or be subject to a penalty for failure to comply with a collection of information, subject to the requirements of the Paperwork Reduction Act of 1995, 44 U.S.C. 3501 et seq. (PRA), unless that collection of information displays a currently valid Office of Management and Budget (OMB) Control Number. This regulation involves an information collection approved by OMB under control number 0694-0088, Simplified Network Application Processing System. BIS does not anticipate a change to the burden hours associated with this collection as a result of this rule. Information regarding the collection, including all supporting materials, can be accessed at https://www.reginfo.gov/public/do/PRAMain.

3. This rule does not contain policies with federalism implications as that term is defined in Executive Order 13132.

4. Pursuant to section 1762 of the Export Control Reform Act of 2018, this action is exempt from the Administrative Procedure Act, 5 U.S.C. 553, requirements for notice of proposed rulemaking, opportunity for public participation, and delay in effective date.

5. Because a notice of proposed rulemaking and an opportunity for public comment are not required to be given for this rule by 5 U.S.C. 553, or by any other law, the analytical requirements of the Regulatory Flexibility Act, 5 U.S.C. 601, et seq., are not applicable. Accordingly, no regulatory flexibility analysis is required, and none has been prepared.

List of Subjects in 15 CFR Part 744

Exports, Reporting and recordkeeping requirements, Terrorism.

Accordingly, part 744 of the Export Administration Regulations (15 CFR parts 730-774) is amended as follows:

PART 744—END-USE AND END-USER CONTROLS

1. The authority citation for part 744 continues to read as follows:

Authority: 50 U.S.C. 4801-4852; 50 U.S.C. 4601 et seq.; 50 U.S.C. 1701 et seq.; 22 U.S.C. 3201 et seq.; 42 U.S.C. 2139a; 22 U.S.C. 7201 et seq.; 22 U.S.C. 7210; E.O. 12058, 43 FR 20947, 3 CFR, 1978 Comp., p. 179; E.O. 12851, 58 FR 33181, 3 CFR, 1993 Comp., p. 608; E.O. 12938, 59 FR 59099, 3 CFR, 1994 Comp., p. 950; E.O. 13026, 61 FR 58767, 3 CFR, 1996 Comp., p. 228; E.O. 13099, 63 FR 45167, 3 CFR, 1998 Comp., p. 208; E.O. 13222, 66 FR 44025, 3 CFR, 2001 Comp., p. 783; E.O. 13224, 66 FR 49079, 3 CFR, 2001 Comp., p. 786; Notice of September 18, 2024, 89 FR 77011 (September 20, 2024); Notice of November 7, 2024, 89 FR 88867 (November 8, 2024).

2. Supplement no. 4 is amended by:

a. Under CHINA, PEOPLE'S REPUBLIC OF,

i. Adding in alphabetical order, entries for “Aeronautics Computing Technique Research Institute”; “Aerospace Star Technology Application Co., Ltd.”; “Air Force Engineering University”; “Anhui Kehua Sci-Tech Trading Co., Ltd.”; “Associated Opto-electronics (Chongqing) Co., Ltd.”; “Beijing Foundfresh Technology Co., Ltd.”; “Beijing Graphene Institute Co., Ltd”; “Beijing Guoke Tianxun Technology Co., Ltd.”; “Chengdu Aircraft Design and Research Institute”; “China Academy of Launch Vehicle Technology Beijing Institute of Precision Mechatronics Control Equipment”; “China Aeronautical Radio Electronics Research Institute”; “Chinese Academy of Sciences Technology and Engineering Center for Space Utilization”; “Chongqing Southwest Integrated Circuit Design Co., Ltd.”; “Gyro Technology Co., Ltd.”; “Harbin Aerospace Star Data System Technology Co., Ltd.”; “Jiangxi Hongdu Aviation Industry Group Co., Ltd.”; “Mohammad Reza Rajabi”; “Nanjing Chunhui Technology Industry Co., Ltd.”; “Nanjing Fiberglass Research and Design Institute”; “Nanjing Panda Handa Technology Co., Ltd.”; “National Inspection and Testing Holding Group Nanjing National Materials Testing Co., Ltd.”; “Ningbo Institute of Materials Technology and Engineering”; “ORICAS Import and Export (Beijing) Corporation”; “Physike Technology Co., Ltd.” “Scikro (Hong Kong) Instruments Limited”; “Scikro (Shanghai) Instrument Co., Ltd.”; “Shaanxi Aerospace Science and Technology Co., Ltd.”; “Shanghai Aviation Electronic Co., Ltd.”; “Silk Road Trading Company Ltd.”; “Singleton (Suzhou) Electronics Technology Co., Ltd.”; “Space Star Technology Co., Ltd.”; “Stratum FT Limited”; “Suzhou Changfeng Avionics Co., Ltd.”; “Suzhou SIP Hi-Tech Precision Electronics Co., Ltd.”; “Tianjin Aerospace Zhongwei Data System Technology Co., Ltd.”; “Xi'an Aerospace Automation Co., Ltd.”; “Xi'an Aerospace Tianhui Data Technology Co., Ltd.”; “Xi'an Sunward Aeromat Co., Ltd.”; “Xi'an Xiangteng Microelectronics Technology Co., Ltd.”; “Xi'an Xiangxun Technology Co., Ltd.”; “Zhejiang Aerospace Hengjia Data Technology Co., Ltd.”; and “Zibo Topred International Trading Company Limited”;

b. Under FRANCE, revising the entry for “Dart Aviation”;

c. Under IRAN,

i. Revising the entry for “Dart Aviation”; and

ii. Adding, in alphabetical order, the entries for “Mohammad Reza Rajabi” and “Silk Road Trading Company Ltd.”;

d. Under PAKISTAN, adding entries in alphabetical order for “Allied Business Concerns (Pvt) Ltd”; “Ariston Trade Links”; “Britlite Engineering Company”; “Global Traders”; “Indentech International”; “IntraLink Incorporated”; “Linkers Automation (Pvt) Ltd”; “NA Enterprises”; “Otto Manufacturing”; “Potohar Industrial & Trading Concern”; “Proc-Master”; “Professional Systems (Pvt) Ltd.”; “Rachna Supplies (Pvt) Ltd”; “RASTEK Technologies”; “Rehman Engineering and Services”; “Resource Enterprises”; “Sine Technologies”; “Supply Source Co.”; and “The Sadidians”;

e. Under SENEGAL, revising the entry for “Dart Aviation”;

f. Under SOUTH AFRICA, adding entries in alphabetical order for “Ascenso Aviation”; “Blue Sky Aviation (Pty) Ltd.”; and “Wingman Concept (Pty) Ltd.”;

g. Under UNITED ARAB EMIRATES, adding entries in alphabetical order for “Astec Astronomy FZCO”; “Roche Consulting Limited”; “TFASA Helicopter International”; and

“TG Training 2023 FZCO”; and

h. UNDER UNITED KINGDOM, revising the entry for “Dart Aviation”.

The revision and additions read as follows:

Supplement No. 4 to Part 744—Entity List

* * * * *

Country | Entity | License requirement | License review policy | Federal Register citation
* * * * * * *
CHINA, PEOPLE'S REPUBLIC OF
| * * * * * *
| Aeronautics Computing Technique Research Institute, a.k.a., the following 11 aliases: —AVIC Xi'an Aeronautics Computing Technique Research Institute; —ACTRI; —Aviation Industry Corporation of China Xi'an Institute of Aeronautical Computing; —Aviation Industry Xi'an Institute of Aeronautical Computing Technology; | For all items subject to the EAR. (See § 744.11 of the EAR) | Presumption of denial | 90 FR [INSERT FR PAGE NUMBER] 3/28/25.
| —Xi'an Institute of Aeronautical Computing Technology; —Aviation Industry Computing Institute; —AVIC Computing Institute; —The 631st Research Institute of Aviation Industry Corporation of China; —AVIC 631 Institute; —West Air Computing Technology Research Institute; and —Xihang Institute of Computing Technology. No. 15, Jinye 2 Road, Xi'an, Shaanxi Province, China; and No. 156 Taibai North Road, Beilin District, Xi'an City, China.
| Aerospace Star Technology Application Co., Ltd., a.k.a., the following one alias: —Aerospace Star Space Technology Application Co., Ltd. No. 70 Jinya Road, Xi'an High-tech Zone, China. | For all items subject to the EAR. (See § 744.11 of the EAR) | Presumption of denial | 90 FR [INSERT FR PAGE NUMBER] 3/28/25.
| * * * * * *
| Air Force Engineering University, a.k.a., the following two aliases: —China People's Liberation Army Air Force Engineering University; and —AFEU. | For all items subject to the EAR. (See § 744.11 of the EAR) | Presumption of denial | 90 FR [INSERT FR PAGE NUMBER] 3/28/25.
| Changle E Rd., Baqiao Qu, Xian Shi, Shaanxi Sheng, 710015, China; and Jiazi No. 1, Changle Dong (East) Road, Baqiao District, Xi'an, Shaanxi Province, China.
| * * * * * *
| Anhui Kehua Sci-Tech Trading Co., Ltd., a.k.a., and the following two aliases: —Anhui Kehua Trading Co., Ltd.; and —Hefei Haoyu Science and Trade Co., Ltd. | For all items subject to the EAR. (See § 744.11 of the EAR) | Presumption of denial | 90 FR [INSERT FR PAGE NUMBER] 3/28/25.
| Room 605, No. 215 Meiling Avenue, Hefei, China; and Room 702, Changhe Science and Technology Innovation Building, 677 Changjiang West Road, Hefei, China; and No. 433, Huangshan Road, Hefei, China; and No. 1, East Third Road, Erxian Bridge, Chengdu, China.
| * * * * * *
| Associated Opto-electronics (Chongqing) Co., Ltd., a.k.a., and the following two aliases: —AOE; and —Chongqing Hangwei Optoelectronics Technology Co., Ltd. | For all items subject to the EAR. (See § 744.11 of the EAR) | Presumption of denial | 90 FR [INSERT FR PAGE NUMBER] 3/28/25.
| No. 14, Huayuan Road, Nanping District, Chongqing, China.
| * * * * * *
| Beijing Foundfresh Technology Co., Ltd, a.k.a. the following two aliases: —Found Fresh; and —Found Fresh Technology. | For all items subject to the EAR (See § 744.11 of the EAR) | Presumption of denial | 90 FR [INSERT FR PAGE NUMBER] 3/28/25.
| 105-17, First Floor, Building Five, Yard 29, Jinghai Second Road, Beijing Economic and Technological Development Zone, Beijing, China.
| * * * * * *
| Beijing Graphene Institute Co., Ltd, a.k.a., the following three aliases: —Beijing Graphene Research Institute; —Beijing Graphene Institute; and —BGI. | For all items subject to the EAR. (See § 744.11 of the EAR) | Presumption of denial | 90 FR [INSERT FR PAGE NUMBER] 3/28/25.
| No. 13, Cui South Ring Road, Sujiatuo Town, Haidian District, Beijing, 100095, China; and No. 13 Cuihu Nanhuan Road, Sujiatuo Town, Haidian District, Beijing, China; and No. 265 Bei-Si-Huan Middle Rd., Haidian District, Beijing, China.
| * * * * * *
| Beijing Guoke Tianxun Technology Co., Ltd., a.k.a., the following three aliases: —Guoke Tianxun; —Tasson; and —Beijing Tasson Technology Ltd. | For all items subject to the EAR. (See § 744.11 of the EAR) | Presumption of denial | 90 FR [INSERT FR PAGE NUMBER] 3/28/25.
| Building 6, Area B, Xinchuang Park, Economic Development Zone, Beijing, China; and Building 6, National Defense Science and Technology Park, Beijing Institute of Technology, Haidian District, Beijing, China; and No. 6 Building BIT Technology PAR No Jia 2 Xisanhuan North Rd., Beijing, China; and 11th Floor, Building 6, National Defense Science and Technology Park, Beijing Institute of Technology, Haidian District, Beijing, China; and 5th Floor, Building B2, Phase I, Hefei Software Park, No. 800 Wangjiang West Road, High-tech Zone, Hefei City, Anhui Province, China.
| * * * * * *
| Chengdu Aircraft Design and Research Institute, a.k.a., the following five aliases: —611 Research and Design Institute; —AVIC Chengdu Aircraft Design Institute; —China Aviation Planning, Design and Research Institute; —AVIC Chengdu Aircraft Design; and —Beijing Zhongsheng Science. | For all items subject to the EAR. (See § 744.11 of the EAR) | Presumption of denial | 90 FR [INSERT FR PAGE NUMBER] 3/28/25.
| No. 12 Dewai Street, Xicheng District, Beijing, 100130, China; and Wuhouci Street, Chengdu, China; and No. 800 Keyuan South Second Rd. High Tech Zone, Chengdu, China; and No. 31 Zizhuyuan Rd., Beijing, China.
| * * * * * *
| China Academy of Launch Vehicle Technology Beijing Institute of Precision Mechatronics Control Equipment, a.k.a., the following eight aliases: —Beijing Institute of Precision Mechatronics Control Equipment; —Beijing Precision Electrical Control Equipment Research Institute; —Beijing Precision Mechanical and Electrical Control Equipment Research Institute; —CALT Beijing Institute of Precision Mechatronics Control Equipment; —Beijing Research Institute of Precision Mechatronics and Controls, CALT; —Beijing Research Institute of Precision Mechatronics and Controls; —CALT-18; and —Beijing Precision Electromecha. | For all items subject to the EAR. (See § 744.11 of the EAR) | Presumption of denial | 90 FR [INSERT FR PAGE NUMBER] 3/28/25.
| No. 1, Dahongmen Road, Fengtai District, Beijing, China; and No. 1, Nanda Red Gate No. 1, Fengtai District, Beijing Municipal District, China.
| * * * * * *
| China Aeronautical Radio Electronics Research Institute, a.k.a., the following 26 aliases: —615th Institute; —615 Institute; —Shanghai 615 Research Institute; —Off-Power Station; | For all items subject to the EAR. (See § 744.11 of the EAR) | Presumption of denial | 90 FR [INSERT FR PAGE NUMBER] 3/28/25.
| —Power Office; —Shanghai Aviation Electronics; —China Aviation Radio Electronics Research Institute; —AVIC Radio Electronics Research Institute; —Shanghai Aviation Electronics Company; —CAVIONICS;
| —Longzhi Aviation Electric; —National Aeronautical Radio Electronics Research Institute; —Institute of Aeronautical and Radio Electronics; —China Aviation Radio Electronics Research Institute; —Shanghai Avionics Company; —China Institute of Aeronautics Radio Electronics;
| —AVIC 615; —Lairene Institute; —Aviation Industry Institute of Electrical and Electronics Industries; —Institute of Electrical and Electronic Engineering; —Institute of Electric Power; —Electricity Institute; —Aeronautical Radio; —China Aero Radio; —China Aeronautical Radio; and —China Aeronautics Radio.
| No. 432 Ziyue Road, Minhang District, Shanghai China; and No. 432 Gui Ping Road, Shanghai, China; and No. 599 Zixing Road, Shanghai, China; and A14 Tiantan Dongli Zhongqu Dongcheng District, Beijing, China; and 666 Zixing Road, Min Hang District, Shanghai, China.
| * * * * * *
| Chinese Academy of Sciences Technology and Engineering Center for Space Utilization, a.k.a., the following four aliases: —CAS Technology and Engineering Center for Space Utilization; —CSU; —CSU CAS; and —Space Application Center. | For all items subject to the EAR. (See § 744.11 of the EAR) | Presumption of denial | 90 FR [INSERT FR PAGE NUMBER] 3/28/25.
| No. 9, Deng Zhuang South Rd., Hai Dian Dist, Beijing, 100094, China; and No. 9, Dengzhuang South Road, Haidian District, Beijing, China.
| * * * * * *
| Chongqing Southwest Integrated Circuit Design Co., Ltd., a.k.a., and the following two aliases: —SWID; and —Chongqing Southwest Integrate. | For all items subject to the EAR. (See § 744.11 of the EAR) | Presumption of denial | 90 FR [INSERT FR PAGE NUMBER] 3/28/25.
| 19th Floor, Unit 2, Building 3, No. 15 Danlong Road, Chongqing, China; and No. 14 Nanping Huayuan Road, Chongqing, China; and Room 202, No. 23, Xiyong Avenue, Shapingba District, Chongqing, China.
| * * * * * *
| Gyro Technology Co., Ltd, a.k.a. the following one alias: —Gyro Holdings Limited. Floor 1, Building 5, Number 29 Jing Hai Second Road, Yizhuang Economic Development Zone, Daxing District, Beijing, 100176, China. | For all items subject to the EAR (See § 744.11 of the EAR) | Presumption of denial | 90 FR [INSERT FR PAGE NUMBER] 3/28/25.
| * * * * * *
| Harbin Aerospace Star Data System Technology Co., Ltd., a.k.a., the following three aliases: —Harbin Aerospace Star; —HRB Space Star; and —HRB Spacestar. | For all items subject to the EAR. (See § 744.11 of the EAR) | Presumption of denial | 90 FR [INSERT FR PAGE NUMBER] 3/28/25.
| Building 5, No. 1616, Chuangxin Road, Science and Technology Innovation City, Harbin High-tech Industrial Development Zone, China; and Room 615, No. 77, Chuangxin Road, Building 1, Innovation and Entrepreneurship Plaza, Harbin High-tech Zone, Harbin City, Heilongjiang Province, China.
| * * * * * *
| Jiangxi Hongdu Aviation Industry Group Co., Ltd., a.k.a., the following 15 aliases: —AVIC Hongdu; —AVIC Hongdu Aviation Ltd.; —AVIC Jiangxi Hongdu Aviation Industry Group Co., Ltd.; —AVIC Jiangxi Hongdo Aviation; —AVIC Jiangxi Hongdu Industry; —Nanchang Aircraft Manufacturing Company; —State-Owned Hongdu Machinery Factory; | For all items subject to the EAR. (See § 744.11 of the EAR) | Presumption of denial | 90 FR [INSERT FR PAGE NUMBER] 3/28/25.
| —NAMC; —China Nanchang Aircraft Manufacturing Company; —CNAMC; —Nanchang Aircraft Manufacturing Hongdu Motorcycle Industry (Group) Company; —Jiangxi Hongdu Aviation Industry (Group) Corp., Ltd.; —Hongdu Aviation Industry Group Ltd.; —HAIG; and —HAIC.
| Aviation City, Nanchang High-tech Industrial Development Zone, Nanchang, Jiangxi, China; and P.O. Box 5001-506, Nanchang, 330024 Jiangxi, China; and Xinxiqiao Road, Qingyunpu District, Nanchang, Jiangxi, China; and 2436 Naiying Avenue Nanchang, China; and 5001 Xixi Bridge Qingpu Dist., Nanchang, China; and Suite 816, Silver Tower, Shijiazhuang, China; and No. 25 S One Rd., Sinxi Bridge, Nanchang City, Jiangxi, China; and No. 20 North of Hongdu, Nanchang, China.
| * * * * * *
| Mohamad Reza Rajabi, a.k.a., the following five aliases: —Dr. Alex Xu; —Dr. Ahmad Temi; —Ahmad A. Temijani; —Ahmadi Rajabi; and —Marzich Ghiami Tamijan. | For all items subject to the EAR (See § 744.11 of the EAR) | Presumption of denial | 90 FR [INSERT FR PAGE NUMBER] 3/28/25.
| 72 No—Fuzhong Road, Fuyong Sub-District, Bao'an District, Shenzhen City, Guangdong Province, 518100, China. (See alternate addresses under Iran).
| * * * * * *
| Nanjing Chunhui Technology Industry Co., Ltd., a.k.a., the following two aliases: —Nanjing Chunhui Keji Shiye Youxian Gongsi; and —Nanjing Chunhui Technology Industrial Co., Ltd. | For all items subject to the EAR. (See § 744.11 of the EAR) | Presumption of denial | 90 FR [INSERT FR PAGE NUMBER] 3/28/25.
| No. 30, Andre, Yuhua West Road, Nanjing City, China; and No. 18 Gaoxin Road, Jiangbei New District, Nanjing, China.
| * * * * * *
| Nanjing Fiberglass Research and Design Institute, a.k.a., the following two aliases: —NRDI; and —Nanjing Fiberglass Research. 30 Andeli, West Yuhua Road, Nanjing, China. | For all items subject to the EAR. (See § 744.11 of the EAR) | Presumption of denial | 90 FR [INSERT FR PAGE NUMBER] 3/28/25.
| * * * * * *
| Nanjing Panda Handa Technology Co., Ltd., a.k.a., the following four aliases: —Nanjing Runjingtai Real Estate Co., Ltd.; —NPEC Handa Technology Co., Ltd.; —Nanjing Panda Handa Science &; and —Panda Handa Nanjing Telecom. | For all items subject to the EAR. (See § 744.11 of the EAR) | Presumption of denial | 90 FR [INSERT FR PAGE NUMBER] 3/28/25.
| No. 3, Lianhe Village, Qinhuai District, Nanjing City, Jiangsu, China; and No. 301 East Zhongshan Rd., Nanjing, China; and Rooms 2402, 2403, and 2404, 22nd Floor, Tianxingjian Business Building, no. 47 Fuxing Road, Haidian District, Beijing, China.
| * * * * * *
| National Inspection and Testing Holding Group Nanjing National Materials Testing Co., Ltd., a.k.a., the following four aliases: —Guochang Testing Holding Group Nanjing Guomao Testing Co., Ltd.; —CTCNJ; —Nanjing Guocai Testing Co., Ltd.; and —Nanjing Guocai Testing Co., Ltd. of China Inspection and Testing Holding Group. | For all items subject to the EAR. (See § 744.11 of the EAR) | Presumption of denial | 90 FR [INSERT FR PAGE NUMBER] 3/28/25.
| Building B1, Huizhi Technology Park, No. 8 Hengtai Road, Nanjing Economic and Technological Development Zone, China.
| * * * * * *
| Ningbo Institute of Materials Technology and Engineering, a.k.a., the following eight aliases: —Ningbo Institute of Materials; —CNITECH; —Ningbo Inst of Mat Tech & Eng; —Qianwan Institute of CNITECH; —Ningbo Inst. Of Materials Tech; —Ningbo Institute of Mat; —Ningbo Institute of Materials Technology and Engineering, Chinese Academy of Sciences; and —CAS Ningbo Institute of Materials Technology and Engineering. | For all items subject to the EAR. (See § 744.11 of the EAR) | Presumption of denial | 90 FR [INSERT FR PAGE NUMBER] 3/28/25.
| 1219 West Zhongguan Road, Zhenhai District, Ningbo, Zhejiang, 315201 P.R. China; and 519 Chuangshi Road, Zhenhai, Ningbo, China; and 519 Zhuangshi Ave., Ningbo, China; and Science Torch Building, Canhai Road, Ningbo, China; and No. 1 West Zhongshan Rd., Ningbo, China; and Zhongchuang 1st Road Hangzhou Bay New Zone, Ningbo, China.
| * * * * * *
| ORICAS Import and Export (Beijing) Corporation, a.k.a., and the following two aliases: —ORICAS; and —Dongfang Guoke (Beijing) Import and Export Co., Ltd. | For all items subject to the EAR. (See § 744.11 of the EAR) | Presumption of denial | 90 FR [INSERT FR PAGE NUMBER] 3/28/25.
| Floor 21, Internet Finance Center, 1 Danling Street, Beijing, China; and Room 1406, 1408, 14th Floor, No. 67 Fucheng Road, Beijing, China; and 114 Nanta Street, Shenyang, China; and 2699 Qianjin Street, Changchun, China; and 508, Life Science Building, Vangu Jianchiang Road, Changchun, China; and No. 600, Dunyu Road, Hangzhou, China; and No. A-2, West 3rd Ring North Road, Beijing, China; and No. 18, Shilongshan Road, Hangzhou, China; and No. 3, Shuyuan East Road, Xian, China.
| * * * * * *
| Physike Technology Co., Ltd., a.k.a., and the following three aliases: —Beijing Feisco Technology Co., Ltd.; —Physike Hong Kong Tech Co., Ltd.; and —Physike HK Technology Co., Ltd. | For all items subject to the EAR. (See § 744.11 of the EAR) | Presumption of denial | 90 FR [INSERT FR PAGE NUMBER] 3/28/25.
| 1st Floor, Building 19, Guanghua Entrepreneurship Park, Beijing, China; and 1st Floor, No. 38 Tieling Road, Shanghai, China; and Building 27, Tong Sha Ke Cuang Industrial Park, Beijing, China.
| * * * * * *
| Scikro (Hong Kong) Instruments Limited, a.k.a., the following two aliases: —Scikro Hong Kong Instrument Limited; and —Scikro Instruments Ltd. | For all items subject to the EAR. (See § 744.11 of the EAR) | Presumption of denial | 90 FR [INSERT FR PAGE NUMBER] 3/28/25.
| Building 46, No. 555, Guiping Road, Shanghai, China; and Building 8, No. 86 Bi Yun Road, Shanghai, China; and 6F, Manulife Place, 348 Kwun Tong Road, Kowloon, Hong Kong; and Acad Bldg., Room 4461, Kowloon, Hong Kong.
| * * * * * *
| Scikro (Shanghai) Instrument Co., Ltd., a.k.a. the following one alias: —Saihao (Shanghai) Instrument Co., Ltd. | For all items subject to the EAR. (See § 744.11 of the EAR) | Presumption of denial | 90 FR [INSERT FR PAGE NUMBER] 3/28/25.
| Building 45, No. 555, Guiping Road, Shanghai, China; and Building 46, No. 555, Guiping Road, Shanghai, China; and Building 8, No. 86 Bi Yun Road, Shanghai, China; and Building 1, No. 480 Huapu Road, Shanghai, China.
| * * * * * *
| Shaanxi Aerospace Science and Technology Co., Ltd., a.k.a., the following two aliases: —Xi'an Tianying Industry Co., Ltd.; and —Xi'an Xiangyang Aerospace Industry Head Office. | For all items subject to the EAR. (See § 744.11 of the EAR) | Presumption of denial | 90 FR [INSERT FR PAGE NUMBER] 3/28/25.
| No. 32 Tuanjie South Road, Xi'an High-tech Zone, Shaanxi Province, China; and No. 1, Tianwang Street, Baqiao District, Xi'an, Shaanxi Province, China; and No. 1 Cuihuanan Rd., Xi'an, China.
| * * * * * *
| Shanghai Aviation Electronic Co., Ltd., a.k.a., the following four aliases: —Shanghai Aviation Electronics Company; —Shanghai Avionics Co., Ltd.; —Shanghai Hangkong Dianzi Youxian Zeren Gongsi; and —Shanghai Aviation Electronics Co., Ltd. | For all items subject to the EAR. (See § 744.11 of the EAR) | Presumption of denial | 90 FR [INSERT FR PAGE NUMBER] 3/28/25.
| No. 5, 432 Ziyue Road, Minhang District, Shanghai, China; and 9th Floor, Building 3, Qingyang Headquarters Economic Base, Qingyang District, Chengdu, China; and Building 3, No. 266, Guanghua North Fifth Road, Qingyang District, Chengdu, Sichuan Province, China.
| * * * * * *
| Silk Road Trading Company Ltd., a.k.a. the following two aliases: —Silk Road Trading Co Ltd.; and —Silk Road. | For all items subject to the EAR (See § 744.11 of the EAR) | Presumption of denial | 90 FR [INSERT FR PAGE NUMBER] 3/28/25.
| 72 No—Fuzhong Road, Fuyong Sub-District, Bao'an District, Shenzhen City, Guangdong Province, 518100, China. (See alternate addresses under Iran).
| * * * * * *
| Singleton (Suzhou) Electronics Technology Co., Ltd., a.k.a., the three following aliases: —Suzhou Singleton; —Suzhou Hefu Technology Co., Ltd.; and —Singleton Group China. | For all items subject to the EAR. (See § 744.11 of the EAR) | Presumption of denial | 90 FR [INSERT FR PAGE NUMBER] 3/28/25.
| Room 102, No. 6 Matangwan Road, Suzhou Industrial Park, Suzhou, China.
| * * * * * *
| Space Star Technology Co., Ltd., a.k.a., the following 12 aliases: —Space star technology co., LTD; —Aerospace Steel Technology Co., Ltd.; —Aerospace Star Technology Co., Ltd.; —Institute 503, Fifth Aerospace Academy; —503 Aerospace Fifth Academy; —503 Institute; —CAST 503; —CASC 5th Academy, 503 Institute; —Spacestar; —SSTC; —Space Star Aero Tech; and —Space Star Aerospace Tech | For all items subject to the EAR. (See § 744.11 of the EAR) | Presumption of denial | 90 FR [INSERT FR PAGE NUMBER] 3/28/25.
| 82 Zhichun Road, Beijing, China; and No. 77, Jinjin Road, Zhongguancun, Zhongguancun, Haidian District, Beijing, China; and Shaanxi Province Xi'an National Civil Aerospace Industry Base Feitian Road Beihang University Beihang University of Science and Technology Park, China; and Mid-Section of Xi'an Aerospace Avenue (Xi'an Satellite Application Base), China; and Building 2, Building 2, Building 2, No. 1666, Chengdu Economic and Technological Development Zone, Chengdu Economic and Technological Development Zone, Sichuan Province, China; and Block A, Building 5, Western Zhigu District, Wu Hing District, Wuhou District, Chengdu City, China; and No. 99, Shenzhou Avenue, High-tech Seven Road, Binhai High-tech Zone, Tianjin, China; and No. 1616, Science and Technology Innovation City, High-tech Industrial Development Zone, Harbin, Heilongjiang Province, China; and Building 21, Building 21, ZTE Software Park, No. 688, Aixi Hubei Road, High-tech Zone, Nanchang City, Jiangxi Province, China; and Aerospace Jiangnan, No. 27-1 Binhu District, Binhu District, Wuxi City, Jiangsu Province, China; and No. 127, Ziqiang Road, Qiaoxiang District, Shijiazhuang City, Hebei Province, China; and 50 Yongding Road, Haidian District, Beijing, China; and No. 18 Zhongguancun East Road, Haidian District, Beijing, China; and No. 39 Jiangjun Road, Jiangning District, Beijing, China; and No. 55 Zhuque Rd., Haidian District, Beijing, China.
| * * * * * *
| Stratum FT Limited, a.k.a. the following one alias: —Stratos. Room 517 New City Centre, 2 Lei Yue Mun Road, Kwun Tong, Kowloon, Hong Kong | For all items subject to the EAR (See § 744.11 of the EAR) | Presumption of denial | 90 FR [INSERT FR PAGE NUMBER] 3/28/25.
| * * * * * *
| Suzhou Changfeng Avionics Co., Ltd., a.k.a., the following four aliases: —AVIC Changfeng; —Changfeng Avionics; —AVIC Suzhou Changfeng Avionics; and —Suzhou Changfeng Aviation Electronics Co., Ltd. | For all items subject to the EAR. (See § 744.11 of the EAR) | Presumption of denial | 90 FR [INSERT FR PAGE NUMBER] 3/28/25.
| No. 379, Jianlin Road, New District, Suzhou City, Jiangsu Province, China.
| * * * * * *
| Suzhou SIP Hi-Tech Precision Electronics Co., Ltd., a.k.a., the following two aliases: —Suzhou Gaotai Electronic Technology Co., Ltd.; and —Singleton Group. | For all items subject to the EAR. (See § 744.11 of the EAR) | Presumption of denial | 90 FR [INSERT FR PAGE NUMBER] 3/28/25.
| No. 6 Matangwan Road, Suzhou Industrial Park, Suzhou, China; and Room 315, Unit 1, Building 1, No. 2 Nanchang Section of Tiyu Road, Nancheng Neighborhood, Dongguan, Guangdong, China; and No. 2 Xiangdeng Street, Weiting Town, Suzhou, China.
| * * * * * *
| Tianjin Aerospace Zhongwei Data System Technology Co., Ltd., a.k.a., the following two aliases: —81 UAV; and —Space ZW. | For all items subject to the EAR. (See § 744.11 of the EAR) | Presumption of denial | 90 FR [INSERT FR PAGE NUMBER] 3/28/25.
| Shenzhou Avenue 101, Super Large Spacecraft Assembly and Test Center, China; and No. 101, Shenzhou Avenue, Binhai Science and Technology Park, Binhai Hi-tech Zone, Tianjin, China; and No. 99, Shenzhou Avenue, Gaoxin 7th Road, Binhai Hi-tech Zone, Tianjin, China.
| * * * * * *
| Xi'an Aerospace Automation Co., Ltd., a.k.a., the following three aliases: —Xi'an Aerospace; —AsAm; and —asam. | For all items subject to the EAR. (See § 744.11 of the EAR) | Presumption of denial | 90 FR [INSERT FR PAGE NUMBER] 3/28/25.
| No. 8, Electronic 1st Road, Xi'an City, China; and No. 8, Dian Zi Road, Xi'an City, China; and No. 8 Dian Zi First Road, Xi'an City, China; and No. 2, Middle Section of Weidou Road, Chang'an District, Xi'an, Shaanxi Province, China; and No. 43, Ali Road, Sayibak District, Urumqi, Xinjiang, China; and No. 12, Laogangfang Street, Xincheng District, Hohhot City, Inner Mongolia, China; and No. 471, Hanyun Road, Baiyun District, Guangzhou City, China; and Rainforest Space Incubator, Building B, Yinchuan Zhongguancun Innovation Center, Xingzhou North Street, Xixia District, Yinchuan City, Ningxia, China.
| * * * * * *
| Xi'an Aerospace Tianhui Data Technology Co., Ltd. Unit 5, Building 6, Beihang Science and Technology Park, National Civil Aerospace Industry Base, Hangtian Middle Road, Xi'an, Shaanxi Province, China; and 7th floor of Building B, Huihang Plaza, Hangtuo Road, Xi'an Aerospace Base, China. | For all items subject to the EAR. (See § 744.11 of the EAR) | Presumption of denial | 90 FR [INSERT FR PAGE NUMBER] 3/28/25.
| * * * * * *
| Xi'an Sunward Aeromat Co., Ltd., a.k.a., the following three alias: —Xi'an Sunword Aerospace Material Co., Ltd.; —Xi'an Xiangyang Aerospace Materials Co., Ltd.; and —Xi'an Xiangyang Hangtian Cailiao Gufen Youxian Gongsi. | For all items subject to the EAR. (See § 744.11 of the EAR) | Presumption of denial | 90 FR [INSERT FR PAGE NUMBER] 3/28/25.
| No. 32 Tuanjie South Road, High Tech Zone, Xi'an City, China; and Aerospace 7414 Plant, Baijiaping, Wangchuan Town, Lantian County, China; and Tiedong, Zhaodong City, Suihua City, Heilongjiang Province, China; and No. 1, Tianwang Street, Hongqing Street, Baqiao District, Xi'an, China; and No. 2 Huanhu Road, Chengdu-Aba Industrial Concentration Development Zone, Huaikou Town, Jintang County, Chengdu City, Sichuan, China; and Southeast corner of the intersection of Hangtian East Road and Hangtian Avenue, National Civil Aerospace Industry Base, Xi'an, Shaanxi, China; and Room 301, Emerging Industry Incubator, No. 44, Torch New Street, Daqing High-tech Zone, Heilongjiang Province (Park), China.
| * * * * * *
| Xi'an Xiangteng Microelectronics Technology Co., Ltd., a.k.a., the following two aliases: —Xi'an Xiangteng Weidianzi Keji Youxian Gongsi; and —Xiangteng Microelectronics. Room S303, Innovation Building, No. 25 Gaoxin 1st Road, Xi'an, China. | For all items subject to the EAR. (See § 744.11 of the EAR) | Presumption of denial | 90 FR [INSERT FR PAGE NUMBER] 3/28/25.
| * * * * * *
| Xi'an Xiangxun Technology Co., Ltd., a.k.a., the following five aliases: —Aviation Industry Xi'an Xiangxun Technology Co., Ltd.; —AVIC Xi'an Xiangxun Technology Co., Ltd.; —Xi'an Xiangxun Technology; —Xiangxun Technology; and —Xi'an Xiangxun Keji Youxian Zeren Gongsi. | For all items subject to the EAR. (See § 744.11 of the EAR) | Presumption of denial | 90 FR [INSERT FR PAGE NUMBER] 3/28/25.
| 156 Taibaibei Road Lianhu District, Xi'an City, Shaanxi, China; and No. 156, Taibai North Road, Beilin, Xi'an City, Shaanxi Province, China.
| * * * * * *
| Zhejiang Aerospace Hengjia Data Technology Co., Ltd., a.k.a., the following two aliases: —Hengjia Data; and —HTHJSJ. | For all items subject to the EAR. (See § 744.11 of the EAR) | Presumption of denial | 90 FR [INSERT FR PAGE NUMBER] 3/28/25.
| Room 101, Building 42, Hangzhou Bay New Economic Park, Jiaxing Port Area, Zhejiang Province, China; and Building 35, New Economic Park, Jiaxing Port District, Jiaxing City, Zhejiang Province, China.
| * * * * * *
| Zibo Topred International Trading Company. 27-3-301, Wotuan Zone, Boshan, Zibo, Shandong, China. | For all items subject to the EAR (See § 744.11 of the EAR) | Presumption of denial | 90 FR [INSERT FR PAGE NUMBER] 3/28/25.
* * * * * * *
FRANCE | * * * * * *
| Dart Aviation, a.k.a., the following six aliases: —Dart Aviation Technics; —Dart Aviation Marlbrine S.A.R.L.; —MBP Trading Ltd.; —Almo Aero; —Almo Aero (Dart Aviation Technics) (IEAS); and —SARL IEAS. | For all items subject to the EAR. (See § 744.11 of the EAR) | Presumption of denial | 84 FR 61541, 11/13/19. 85 FR 14796, 3/16/20. 90 FR [INSERT FR PAGE NUMBER] 3/28/25.
| 3, Rue de la Janaie—ZA Yves Burgot, 35400 Saint Malo I&V, France; and Rue des Rougeries, 35400 Saint-Malo, France. (See alternate addresses under Iran, Senegal and the United Kingdom).
* * * * * * *
IRAN | * * * * * *
| Dart Aviation, a.k.a., the following six aliases: —Dart Aviation Technics; —Dart Aviation Marlbrine S.A.R.L.; —MBP Trading Ltd.; —Almo Aero; —Almo Aero (Dart Aviation Technics) (IEAS); and —SARL IEAS. | For all items subject to the EAR. (See § 744.11 of the EAR) | Presumption of denial | 84 FR 61541, 11/13/19. 85 FR 14796, 3/16/20. 90 FR [INSERT FR PAGE NUMBER] 3/28/25.
| East Unit, 1st Floor—Building No. 1, Solhparvar Dead End—Bimeh 5th, Karaj Makhsous Avenue, Tehran, Iran. (See alternate addresses under France, Senegal and the United Kingdom).
| * * * * * *
| Mohamad Reza Rajabi, a.k.a. the following five aliases: —Dr. Alex Xu; —Dr. Ahmad Temi; —Ahmad A. Temijani; —Ahmadi Rajabi; and —Marzich Ghiami Tamijan. | For all items subject to the EAR (See § 744.11 of the EAR) | Presumption of denial | 90 FR [INSERT FR PAGE NUMBER] 3/28/25.
| No. 4, Enghelab Boulevard, Qods City, Tehran Province, Iran; and No. 4, Enghelab BLV, Qods City, Tehran, Iran. (See alternate addresses under China).
| * * * * * *
| Silk Road Trading Company Ltd., a.k.a. the following two aliases: —Silk Road Trading Co Ltd.; and —Silk Road. | For all items subject to the EAR (See § 744.11 of the EAR) | Presumption of denial | 90 FR [INSERT FR PAGE NUMBER] 3/28/25.
| No. 4, Enghelab Boulevard, Qods City, Tehran Province, Iran; and No. 4, Enghelab BLV, Qods City, Tehran, Iran. (See alternate addresses under China).
* * * * * * *
PAKISTAN | * * * * * *
| Allied Business Concerns (Pvt) Ltd. Office No. 3, 1st Floor, RTA Plaza, G-15 Markaz, Islamabad, Pakistan. | For all items subject to the EAR (See § 744.11 of the EAR) | Presumption of denial | 90 FR [INSERT FR PAGE NUMBER] 3/28/25.
| * * * * * *
| Ariston Trade Links, a.k.a., the following one alias: —Ariston. Number 4, Block 19, Allahdad Plaza, Markaz G-8, Islamabad, Pakistan. | For all items subject to the EAR (See § 744.11 of the EAR) | Presumption of denial | 90 FR [INSERT FR PAGE NUMBER] 3/28/25.
| * * * * * *
| Britlite Engineering Company. 12-C, First Floor, Seher Lane Number 9, Phase 7, D.H.A., Karachi, 75500, Pakistan. | For all items subject to the EAR (See § 744.11 of the EAR) | Presumption of denial | 90 FR [INSERT FR PAGE NUMBER] 3/28/25.
| * * * * * *
| Global Traders. 72 Industrial Area, Peshawar Road, Rawalpindi, Pakistan; and 4th Floor, Imperial Court, Dr. Ziauddin Ahmed Road, Karachi, Pakistan; and No. 28, Sheesh Mehal Market, Rawalpindi, Pakistan; and Shop No. 5, 1st Floor Pak Market, Lahore, Pakistan. | For all items subject to the EAR (See § 744.11 of the EAR) | Presumption of denial | 90 FR [INSERT FR PAGE NUMBER] 3/28/25.
| * * * * * *
| Indentech International. Plot Number C-4, 1st Floor, P&T Society, Sector 31/D, Korangi, Karachi, Pakistan. | For all items subject to the EAR (See § 744.11 of the EAR) | Presumption of denial | 90 FR [INSERT FR PAGE NUMBER] 3/28/25.
| * * * * * *
| IntraLink Incorporated. 103 Dossal Arcade, 47 Jinnah Avenue, Blue Area, Islamabad, 44000, Pakistan. | For all items subject to the EAR (See § 744.11 of the EAR) | Presumption of denial | 90 FR [INSERT FR PAGE NUMBER] 3/28/25.
| * * * * * *
| Linkers Automation (Pvt) Ltd. Office No. 10, 2nd Floor, Tarnol Centre, Islamabad, Pakistan. | For all items subject to the EAR (See § 744.11 of the EAR) | Presumption of denial | 90 FR [INSERT FR PAGE NUMBER] 3/28/25.
| * * * * * *
| NA Enterprises. Behind Imperio Mall, Wah Cantt, Pakistan. | For all items subject to the EAR (See § 744.11 of the EAR) | Presumption of denial | 90 FR [INSERT FR PAGE NUMBER] 3/28/25.
| * * * * * *
| Otto Manufacturing, a.k.a., the following four aliases: —Otto Cranes; —Otto Materials; —OTTO; and —OTTO Group. | For all items subject to the EAR (See § 744.11 of the EAR) | Presumption of denial | 90 FR [INSERT FR PAGE NUMBER] 3/28/25.
| 12-Km Raiwind Road, Shahansha Town, Lahore, Pakistan; and Office No, 305, 3rd Floor, Marine Faisal, Plot No. 10-A Block 6, PECHS Society, Nursery Main, Shahrah-e-Faisal, Karachi, Pakistan.
| * * * * * *
| Potohar Industrial & Trading Concern, a.k.a., the following one alias: —Potohar. Office No. 7, 3rd Floor, Tarnol, Islamabad, Pakistan. | For all items subject to the EAR (See § 744.11 of the EAR) | Presumption of denial | 90 FR [INSERT FR PAGE NUMBER] 3/28/25.
| * * * * * *
| Proc-Master. C-228 P&T Society, Sector 31D, Korangi, Karachi, 74900, Pakistan. | For all items subject to the EAR (See § 744.11 of the EAR) | Presumption of denial | 90 FR [INSERT FR PAGE NUMBER] 3/28/25.
| * * * * * *
| Professional Systems (Pvt) Ltd. 22-A, Main Road, Sector I-8/2, Islamabad, Pakistan. | For all items subject to the EAR (See § 744.11 of the EAR) | Presumption of denial | 90 FR [INSERT FR PAGE NUMBER] 3/28/25.
| * * * * * *
| Rachna Supplies (Pvt) Ltd. Office No. 26, 3rd Floor, Kohinoor One, Kohinoor City, Jarranwala Road, Faisalabad, Pakistan. | For all items subject to the EAR (See § 744.11 of the EAR) | Presumption of denial | 90 FR [INSERT FR PAGE NUMBER] 3/28/25.
| * * * * * *
| RASTEK Technologies. C-15, Classic Centre Block-16, Gulshan-e Iqbal, Main University Road, Karachi, Pakistan. | For all items subject to the EAR (See § 744.11 of the EAR) | Presumption of denial | 90 FR [INSERT FR PAGE NUMBER] 3/28/25.
| * * * * * *
| Rehman Engineering and Services. Office Number 12, 3rd Floor, Al Hafeez View 67-D/1, Sire Syed Road, Gulberg-III, Lahore, 54660, Pakistan. | For all items subject to the EAR (See § 744.11 of the EAR) | Presumption of denial | 90 FR [INSERT FR PAGE NUMBER 3/28/25.
| * * * * * *
| Resource Enterprises. House No. 111, Street No. 49, F-11/3, Islamabad, Pakistan. | For all items subject to the EAR (See § 744.11 of the EAR) | Presumption of denial | 90 FR [INSERT FR PAGE NUMBER] 3/28/25.
| * * * * * *
| Sine Technologies. 461 B Block, Faisal Town, Lahore, Pakistan. | For all items subject to the EAR (See § 744.11 of the EAR) | Presumption of denial | 90 FR [INSERT FR PAGE NUMBER] 3/28/25.
| * * * * * *
| Supply Source Co. Suite 102, Green Trust Tower, Jinnah Avenue, Islamabad, Pakistan. | For all items subject to the EAR (See § 744.11 of the EAR) | Presumption of denial | 90 FR [INSERT FR PAGE NUMBER] 3/28/25.
| * * * * * *
| The Sadidians. 1st Floor, Sadid Plaza, 3, Main Commercial Area, Canal View Society, Multan Road, Lahore, 53700, Pakistan. | For all items subject to the EAR (See § 744.11 of the EAR) | Presumption of denial | 90 FR [INSERT FR PAGE NUMBER] 3/28/25.
* * * * * * *
SENEGAL | Dart Aviation, a.k.a., the following six aliases: —Dart Aviation Technics; —Dart Aviation Marlbrine S.A.R.L.; —MBP Trading Ltd.; —Almo Aero; —Almo Aero (Dart Aviation Technics) (IEAS); and —SARL IEAS. | For all items subject to the EAR. (See § 744.11 of the EAR) | Presumption of denial | 84 FR 61541, 11/13/19. 85 FR 14796, 3/16/20. 90 FR [INSERT FR PAGE NUMBER] 3/28/25.
| CID Aéroport International Léopold Sedar Senghor Dakar Yoff Senegal. (See alternate addresses under France, Iran and the United Kingdom).
* * * * * * *
SOUTH AFRICA | * * * * * *
| Ascenso Aviation, a.k.a. the following three aliases: —Ascenso Talent; —AMC Group (Pty) Ltd; and —Ascenso Flight Test. 44 Blue Crane Street, Monte Cristo, Mossel Bay, Western Cape, 6500 South Africa; and 1 Stephen Van Der Westhuizen Street, Mossel Bay, Western Cape, 6500, South Africa; and P.O. Box 230, Mossel Bay, 6520, South Africa; and 520 Van Rayneveld Drive, Pierre van Ryneveld, Centurion, 0045, South Africa; and P.O. Box 8120, Centurion, South Africa. | For all items subject to the EAR (See § 744.11 of the EAR) | Presumption of denial | 90 FR [INSERT FR PAGE NUMBER] 3/28/25.
| * * * * * *
| Blue Sky Aviation (Pty) Ltd. General Aviation Hangars, George Airport, Western Cape, George, 6530, South Africa. | For all items subject to the EAR (See § 744.11 of the EAR) | Presumption of denial | 90 FR [INSERT FR PAGE NUMBER] 3/28/25.
| * * * * * *
| Wingman Concept (Pty) Ltd. Hangar 23, General Aviation Area, George Airport, George, Western Cape, 6530, South Africa. | For all items subject to the EAR (See § 744.11 of the EAR) | Presumption of denial | 90 FR [INSERT FR PAGE NUMBER] 3/28/25.
* * * * * * *
UNITED ARAB EMIRATES | * * * * * *
| Astec Astronomy FZCO. Dubai Silicon Oasis, DDP, Building A2 IFZY Business Park DDP, United Arab Emirates. | For all items subject to the EAR (See § 744.11 of the EAR) | Presumption of denial | 90 FR [INSERT FR PAGE NUMBER] 3/28/25.
| * * * * * *
| Roche Consulting Limited. Suite 1702, Level 17 Boulevard Plaza Tower 1, Sheikh Mohammed Bing Rashid Boulevard, Downtown Dubai, UAE; and Suite 904-09, Boulevard Plaza 1, Sheikh Mohammed Bin Rashid Boulevard, Downtown Burg Khalifa, Dubai; and P.O. Box 23596 24553-01, A2, IFZA Business Park, DSO, Dubai. | For all items subject to the EAR (See § 744.11 of the EAR) | Presumption of denial | 90 FR [INSERT FR PAGE NUMBER] 3/28/25.
| * * * * * *
| TFASA Helicopter International Limited. P.O. Box 23596, 24553-001, A2 IFZA Business Park, DSO, Dubai. | For all items subject to the EAR (See § 744.11 of the EAR) | Presumption of denial | 90 FR [INSERT FR PAGE NUMBER] 3/28/25.
| * * * * * *
| TG Training 2023 FZO, a.k.a. the following one alias: —TGT23. Dubai Silicon Oasis, DDP, Building A2, Dubai; and P.O. Box 23596, 24553-001, A2, IFZA Business Park, DSO, Dubai. | For all items subject to the EAR (See § 744.11 of the EAR) | Presumption of denial | 90 FR [INSERT FR PAGE NUMBER] 3/28/25.
* * * * * * *
UNITED KINGDOM | * * * * * *
| Dart Aviation, a.k.a., the following six aliases: —Dart Aviation Technics; —Dart Aviation Marlbrine S.A.R.L.; —MBP Trading Ltd.; —Almo Aero; —Almo Aero (Dart Aviation Technics) (IEAS); and —SARL IEAS. | For all items subject to the EAR. (See § 744.11 of the EAR) | Presumption of denial | 84 FR 61541, 11/13/19. 85 FR 14796, 3/16/20. 90 FR [INSERT FR PAGE NUMBER] 3/28/25.
| Unit 7 Minton Distribution Park, London Road, Amesbury SP4 7RT Wiltshire, London, United Kingdom; and Martlet House E1, Yeoman Gate Yeoman Way Worthing West Sussex BN13 3QZ. (See alternate addresses under France, Iran and Senegal).
| * * * * * *

* * * * *

Julia A. Khersonsky,
Deputy Assistant Secretary for Strategic Trade and Technology Security.

[FR Doc. 2025-05426 Filed 3-25-25; 4:30 pm]

BILLING CODE 3510-33-P